DEPARTMENT OF DEFENSE

Department of the Army

Performance Review Boards Membership

AGENCY: Department of the Army, DOD.

ACTION: Notice.

SUMMARY: Notice is given of the names of members of a Performance Review Board for the Department of the Army.

EFFECTIVE DATE: February 20, 2003.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Headquarters, U.S. Army Materiel Command are:

1. Major General William H. Russ, Commanding General, Communications-Electronics Command.

2. Mr. Michael Parker, Deputy to the Commander, U.S. Army Soldier and Biological Chemical Command.

3. Ms. Marlene Cruze, Executive Director, Acquisition Center, U.S. Army Aviation and Missile Command.

4. Dr. N. Radhakrishnan, Director, Computational and Information Sciences Directorate, U.S. Army Research Laboratory.

5. Major General Larry J. Dodgen, Commanding General, U.S. Army Aviation and Missile Command.

6. Mr. Victor Ferlise, Deputy to the Commander, U.S. Army Communications-Electronics Command.

7. Dr. Robin Keesee, Director Human Research and Engineering Directorate, U.S. Army Research Laboratory.

8. Mr. Vemula Rao, Vice President for Customer Engineering, Tank-Automotive Research, Development and Engineering Center.

Luz D. Ortiz,
Army Federal Register Liaison Officer.

[FR Doc. 03-4787 Filed 2-27-03; 8:45 am]

BILLING CODE 3710-08-M